FEDERAL COMMUNICATIONS COMMISSION

Radio Broadcasting Services; AM or FM Proposals To Change the Community of License

AGENCY: Federal Communications Commission.

ACTION: Notice.

SUMMARY: The following applicants filed AM or FM proposals to change the community of license: COLLEGE CREEK MEDIA, LLC, Station KEAU, Facility ID 164133, BMPH-20080225AHE, From CHOTEAU, MT, To FAIRFIELD, MT; COLLEGE CREEK MEDIA, LLC, Station KUUS, Facility ID 164134, BMPH-20080225AHG, From FAIRFIELD, MT, To VAUGHN, MT; COLLEGE CREEK MEDIA, LLC, Station KZUS, Facility ID 164132, BMPH-20080225AHI, From BELT, MT, To HIGHWOOD, MT; JAMES JARRELL COMMUNICATIONS AND FOUNDATION, Station WELL-FM, Facility ID 64562, BPED-20080219AZN, From DADEVILLE, AL, To WAVERLY, AL; JBL BROADCASTING, INC., Station WVEK-FM, Facility ID 14721, BPH-20080219ALZ, From CUMBERLAND, KY, To WEBER CITY, VA; JOYNER, TOM, Station WNCM, Facility ID 170946, BMPH-20080219ASH, From GARYSBURG, NC, To SHARPSBURG, NC; PERRY BROADCASTING OF AUGUSTA, INC., Station WAKB, Facility ID 31942, BPH-20080228ABX, From WAYNESBORO, GA, To HEPHZIBAH, GA; POCAHONTAS BROADCASTING CO., Station WELC-FM, Facility ID 52864, BPH-20080219AST, From WELCH, WV, To POCAHONTAS, VA; ROANOKE VALLEY COMMUNICATIONS, INC., Station WZRU, Facility ID 2468, BPED-20080219BAC, From ROANOKE RAPIDS, NC, To GARYSBURG, NC; ROBERT R. RULE, Station NEW, Facility ID 166086, BMPH-20080213AHK, From WRIGHT, WY, To SLEEPY HOLLOW, WY.

DATES: Comments may be filed through May 20, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E8-5805 Filed 3-20-08; 8:45 am]

BILLING CODE 6712-01-P